DEPARTMENT OF HEALTH AND HUMAN SERVICES

Solicitation for the Nomination of Candidates To Serve as Members of the National Vaccine Advisory Committee

AGENCY: Office of Public Health and Science, Office of the Secretary, HHS.

ACTION: Notice.

Authority: 42 U.S.C. 217a, section 222 of the Public Health Service (PHS) Act, as amended. The Committee is governed by the provisions of Public Law 92-463, as amended (5 U.S.C. Appendix 2), which sets forth standards for the formation and use of advisory committees.

SUMMARY: The National Vaccine Program Office (NVPO), a program office within the Office of Public Health and Science, DHHS, is soliciting nominations of qualified candidates to be considered for appointment as members to the National Vaccine Advisory Committee (NVAC). The activities of this Committee are governed by the stipulations of the Federal Advisory Committee Act (FACA). The current charter for the NVAC expires July 30, 2005.

Consistent with the National Vaccine Plan, the Committee advises and makes recommendations to the Assistant Secretary for Health in his/her capacity as the Director of the NVPO on matters related to the Program's responsibilities. Specifically, the Committee studies and recommends ways to encourage the availability of an adequate supply of safe and effective vaccination products in the United States; recommends research priorities and other measures to enhance the safety and efficacy of vaccines. The Committee also advises the Assistant Secretary for Health in the implementation of Sections 2102, 2103, and 2104 of the PHS Act; and identifies annually the most important areas of government and non-government cooperation that should be considered in implementing Sections 2102, 2103, and 2104 of the PHS Act.

DATES: Nominations for membership on the Committee must be received no later than 5 pm EST on October 31, 2004, at the address below.

All Nominations Should be Mailed or Delivered to: Bruce G. Gellin, M.D., M.P.H., Executive Secretary, National Vaccine Advisory Committee, Office of Public Health and Science, Department of Health and Human Services, 200 Independence Avenue, SW., Room 725-H Humphrey Building; Washington, DC 20201.

FOR FURTHER INFORMATION, CONTACT: Ms. Emma English, Program Analyst, National Vaccine Program Office, U.S. Department of Health and Human Services, Room 729.1-H Hubert H. Humphrey Building, 200 Independence Avenue, SW., Washington, DC 20201; (202) 690-5566.

A copy of the Committee charter and list of the current membership can be obtained by contacting Ms. English or by accessing the NVAC Web site at: http://www.hhs.gov/nvpo/nvac.

SUPPLEMENTARY INFORMATION: Committee Function: Qualifications and Information Required: Nominations are being sought for individuals who are engaged in vaccine research or the manufacture of vaccines, as well as individuals who are physicians, members of parent organizations concerned with immunizations representatives of State or local health agencies or public health organizations, and other public representatives. Individuals selected for appointment to the Committee will serve as voting members. Individuals selected for appointment to the Committee can be invited to serve terms with periods of up to four years.

Nominations should be typewritten. The following information should be included in the package of material submitted for each individual being nominated for consideration: (1) A letter of nomination that clearly states the name and affiliation of the nominee, the basis for the nomination (i.e., specific attributes which qualify the nominee for service in this capacity), and a statement that the nominee is willing to serve as a member of the Committee; (2) the nominator's name, address and daytime telephone number, and the home and/or work address, telephone number, and email address of the individual being nominated; and (3) a current copy of the nominee's curriculum vitae. Applications cannot be submitted by facsimile. The names of Federal employees should not be nominated for consideration of appointment to this Committee.

The Department makes every effort to ensure that the membership of DHHS Federal advisory committees is fairly balanced in terms of points of view represented and the committee's function. Every effort is made that a broad representation of geographic areas, gender, ethnic and minority groups, and the disabled are given consideration for membership on DHHS Federal advisory committees. Appointment to this Committee shall be made without discrimination on the basis of age, race, ethnicity, gender, sexual orientation, disability, and cultural, religious, or socioeconomic status.

Dated: August 24, 2004.
Sarah Landry,
Associate Director for Communication and Legislation, National Vaccine Program Office.

[FR Doc. 04-19600 Filed 8-26-04; 8:45 am]

BILLING CODE 4150-28-P